DEPARTMENT OF HEALTH AND HUMAN SERVICES

Centers for Disease Control and Prevention

Disease, Disability, and Injury Prevention and Control Special Emphasis Panel (SEP): Conducting Public Health Research in Kenya (Panel B), Funding Opportunity Announcement (FOA) GH10-003, Initial Review

In accordance with Section 10(a)(2) of the Federal Advisory Committee Act (Pub. L. 92-463), the Centers for Disease Control and Prevention (CDC) announces the aforementioned meeting:

Time and Date: 12 p.m.-3 p.m., June 24, 2010 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the initial review, discussion, and evaluation of applications received in response to “Conducting Public Health Research in Kenya (Panel B),” FOA GH10-003.

Contact Person for More Information: Sheree Marshall Williams, PhD, Scientific Review Administrator, CDC, 1600 Clifton Road, NE., Mailstop D73, Atlanta, GA 30333, Telephone: (404) 639-7742.

The Director, Management Analysis and Services Office, has been delegated the authority to sign Federal Register notices pertaining to announcements of meetings and other committee management activities, for both CDC and the Agency for Toxic Substances and Disease Registry.

Dated: May 25, 2010.
Elaine L. Baker,
Director, Management Analysis and Services Office, Centers for Disease Control and Prevention.

[FR Doc. 2010-13169 Filed 6-1-10; 8:45 am]

BILLING CODE 4163-18-P